DEPARTMENT OF AGRICULTURE

Animal and Plant Health Inspection Service

7 CFR Part 319

[Docket No. 98-103-2]

Importation of Artificially Dwarfed Plants in Growing Media From the People's Republic of China

AGENCY: Animal and Plant Health Inspection Service, USDA.

ACTION: Notice of reopening and extension of comment period.

SUMMARY: We are reopening and extending the comment period for our proposed rule that would amend our regulations to allow artificially dwarfed (penjing) plants of the genera Buxus, Ehretia (Carmona), Podocarpus, Sageretia, and Serissa to be imported into the United States from the People's Republic of China in an approved growing medium subject to specified growing, inspection, and certification requirements. This action will allow interested persons additional time to prepare and submit comments.

DATE: We invite you to comment on Docket No. 98-103-1. We will consider all comments that we receive by December 20, 2000.

ADDRESSES: Please send four copies of your comment (an original and three copies) to: Docket No. 98-103-1, Regulatory Analysis and Development, PPD, APHIS, Suite 3C03, 4700 River Road, Unit 118, Riverdale, MD 20737-1238. Please state that your comment refers to Docket No. 98-103-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Wayne D. Burnett, Senior Import Specialist, Phytosanitary Issues Management Team, PPQ, APHIS, 4700 River Road Unit 140, Riverdale, MD 20737-1236; (301) 734-6799.

SUPPLEMENTARY INFORMATION:

Background

On September 20, 2000, we published in the Federal Register (65 FR 56803-56806, Docket No. 98-103-1) a proposed rule to amend our regulations governing the importation of plants and plant products to allow artificially dwarfed (penjing) plants of the genera Buxus, Ehretia (Carmona), Podocarpus, Sageretia, and Serissa to be imported into the United States from the People's Republic of China in an approved growing medium subject to specified growing, inspection, and certification requirements.

Comments on the proposed rule were required to be received on or before November 20, 2000. We are reopening and extending the comment period on Docket No. 98-103-1 for an additional 30 days. This action will allow interested persons additional time to prepare and submit comments. We will consider all comments that we received between September 20, 2000, and December 20, 2000.

Further, interested persons may now obtain the qualitative, pathway-initiated pest risk assessment for this action, titled “Pest Risk Assessments, Penjing Plants from China,” on the APHIS web site at: http://www.aphis.usda.gov/ppq/pim/.

Authority: Title IV, Pub. L. 106-224, 114 Stat. 438, 7 U.S.C. 7701-7772; 7 U.S.C. 166 and 450; 21 U.S.C. 136 and 136a; 7 CFR 2.22, 2.80, and 371.3.

Done in Washington, DC, this 21st day of November 2000.
Craig A. Reed,
Administrator, Animal and Plant Health Inspection Service.

[FR Doc. 00-30597 Filed 11-30-00; 8:45 am]

BILLING CODE 3410-34-U